Proclamation 10750 of May 3, 2024

National Teacher Appreciation Day and National Teacher Appreciation Week, 2024

By the President of the United States of America

A Proclamation

Teachers are the heart and soul of our Nation. They care for our Nation's students, pass on knowledge to rising generations, and inspire our children to dream up new possibilities for their futures. The power of a great teacher is profound, and—on National Teacher Appreciation Day and during National Teacher Appreciation Week—we thank them for their tireless efforts and recommit to taking care of our teachers, just as they have taken care of all of us.

Our Nation asks so much of our teachers, and that is why my Administration supports them in all that we do. Our American Rescue Plan provided historic funding for schools to reopen safely after the pandemic so that teachers could return to their classrooms. It also delivered critical support for schools—from supporting early childhood programs and funding after-school and summer programs to hiring more teachers, counselors, and school psychologists.

We also passed the most significant bipartisan gun safety law in nearly 30 years because teaching should not be a life-threatening profession and teachers should never be on the frontlines of the gun violence epidemic. The law enhanced background checks for people under the age of 21 and gave States funding to enact red flag laws. At the same time, the law provided $1 billion to help schools hire and train mental health counselors. But we need to do more—I continue to call on the Congress to implement commonsense gun safety laws that protect our kids and teachers.

Teachers deserve so much more breathing room: As I said in my State of the Union Address, let us give public school teachers a raise. Let us help relieve them of the student debt they took on to become teachers. My Administration has already worked to take the crushing weight of student debt off teachers' shoulders by fixing the Public Student Loan Forgiveness (PSLF) program. To date, we have canceled over $62.8 billion in student debt for nearly 900,000 public service workers, including teachers. That is up from the only 7,000 workers who had received PSLF when I took office.

There is still much more to do to make sure our teachers are fully supported. My Budget proposes investing nearly $3 billion in teachers and other educators, including $650 million to support pathways into the profession, help keep great teachers in the profession, and increase the diversity of the profession. My Budget also proposes eliminating the origination fees charged to borrowers on every new Federal student loan, which would save the typical teacher $1,000 or more throughout the repayment process. Further, my Administration proposed a rule that would boost Head Start teacher wages by $10,000 on average, ensuring that they are getting the wages they deserve.

The First Lady has reminded me over the years that for teachers, teaching is more than what they do—it is who they are. That sense of purpose powers our Nation's teachers every day—even through the long hours they spend setting up classrooms, preparing lesson plans, and educating our future leaders. I have had the honor of meeting so many of our Nation's great teachers, who have poured their hearts into caring for their students—not only by educating them but motivating and inspiring them. Teachers hold the kite strings that keep our national ambitions aloft. The future of our Nation is in their hands. Today and this week, may we all show them the gratitude they deserve. We will always have their backs.

NOW, THEREFORE, I, JOSEPH R. BIDEN JR., President of the United States of America, by virtue of the authority vested in me by the Constitution and the laws of the United States, do hereby proclaim May 7, 2024, as National Teacher Appreciation Day and May 6 through May 10, 2024, as National Teacher Appreciation Week. I call upon all Americans to recognize the hard work and dedication of our Nation's teachers and to observe this day and this week by supporting teachers through appropriate activities, events, and programs.

IN WITNESS WHEREOF, I have hereunto set my hand this third day of May, in the year of our Lord two thousand twenty-four, and of the Independence of the United States of America the two hundred and forty-eighth.

[FR Doc. 2024-10531

Filed 5-10-24; 8:45 am]

Billing code 3395-F4-P